DEPARTMENT OF THE INTERIOR

Fish and Wildlife Service

50 CFR Part 17

RIN 1018-AJ03

Endangered and Threatened Wildlife and Plants: Removing the Eastern Distinct Population Segment (DPS) of the Gray Wolf From the List of Endangered and Threatened Wildlife

AGENCY: U. S. Fish and Wildlife Service, Interior.

ACTION: Notice of public hearing.

SUMMARY: The U.S. Fish and Wildlife Service (Service) announces that we will hold one additional public hearing on the proposed rule to remove the Eastern Distinct Population Segment of the gray wolf (Canis lupus) from the List of Endangered and Threatened Wildlife established under the Endangered Species Act of 1973, as amended. In a notice made in the Federal Register on August 13, 2004 (69 FR 50147), we announced the locations for nine other public hearing previously scheduled.

DATES: See SUPPLEMENTARY INFORMATION for hearing date.

ADDRESSES: See SUPPLEMENTARY INFORMATION for hearing addresses.

FOR FURTHER INFORMATION CONTACT: Direct all questions or requests for additional information to the Service using the Gray Wolf Phone Line: 612-713-7337, facsimile: 612-713-5292, the general gray wolf electronic mail address: GRAYWOLFMAIL@FWS.GOV, or write to: Gray Wolf Questions, U.S. Fish and Wildlife Service, Federal Building, 1 Federal Drive, Ft. Snelling, Minnesota 55111-4056. Additional information is also available on our World Wide Web site at http://midwest.fws.gov/wolf. In the event that our internet connection is not functional, please contact the Service by the alternative methods mentioned above. Individuals who are hearing-impaired or speech-impaired may call the Federal Relay Service at 1-800-877-8337 for TTY assistance.

SUPPLEMENTARY INFORMATION: Background—On July 21, 2004, we published a proposed rule (69 FR 43664) to remove the Eastern Distinct Population Segment (DPS) of the gray wolf (Canis lupus) from the List of Endangered and Threatened Wildlife established under the Endangered Species Act (Act) of 1973, as amended (16 U.S.C. 1531 et seq.). We proposed this action because available data indicate that this DPS no longer meets the definition of threatened or endangered under the Act. The gray wolf population is stable or increasing in Minnesota, Wisconsin, and Michigan, and exceeds its numerical recovery criteria. Completed State wolf management plans will provide adequate protection and management to the species in these three States if the gray wolf is delisted in the Eastern DPS. The proposed rule would remove this DPS from the protections of the Act by ending its threatened classification. This proposed rule would also remove the currently designated critical habitat for the gray wolf in Minnesota and Michigan, and remove the current special regulations for gray wolves in Minnesota and other Midwestern States. This proposal would not change the status or special regulations currently in place for the Western or Southwestern DPS of the gray wolf or for the red wolf (C. rufus).

In our July 21, 2004, proposed rule, we stated that we would hold public hearings. Consistent with that document, we announced the dates and locations of nine hearings (69 FR 50147). In response to several requests, we are now announcing the date and location for one additional public hearing.

Hearing Information: We will hold only one public hearing on October 20, 2004, at the Black Bear Inn and Conference Center, 4 Godfrey Drive, Orono, Maine.

The hearing will consist of a 1-hour informational meeting from 6:30 to 7:30 p.m., and the official public hearing from 7:30 to 9:30 p.m.

Dated: August 30, 2004.
Marvin E. Moriarty,
Regional Director, Region 5.

[FR Doc. 04-21810 Filed 9-28-04; 8:45 am]

BILLING CODE 4310-55-P